ENVIRONMENTAL PROTECTION AGENCY

[FRL-9303-01-OMS]

Privacy Act of 1974; System of Records

AGENCY: Office of Mission Support (OMS), Environmental Protection Agency (EPA).

ACTION: Notice of a modified system of records.

SUMMARY: The U.S. Environmental Protection Agency's (EPA) Office of Mission Support (OMS) is giving notice that it proposes to modify a system of records pursuant to the provisions of the Privacy Act of 1974. Fleet Access (FA) is being modified to add a routine use that is related to Federal Automotive Statistical Tool (FAST) reporting and to move Fleet Access infrastructure from an externally-hosted non-Federal Risk and Authorization Management Program (FedRAMP) authorized cloud service provider to EPA's National Computing Center (NCC).

DATES: Persons wishing to comment on this system of records notice must do so by February 28, 2022. New routine uses for this modified system of records will be effective February 28, 2022.

ADDRESSES: Submit your comments, identified by Docket ID No. EPA-HQ-OMS-2020-0137, by one of the following methods:

Federal eRulemaking Portal: https://www.regulations.gov. Follow the online instructions for submitting comments.

Email: docket_oms@epa.gov. Include the Docket ID number in the subject line of the message.

Fax: (202) 566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2020-0137. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information about EPA Docket Center services and the current status, please visit us online at https://www.epa.gov/dockets.

FOR FURTHER INFORMATION CONTACT: General questions about the Fleet Access system should be made in writing to James Cunningham, (202) 564-7212, Cunningham.James@epa.gov; Jackie Brown, (202) 564-0313, Brown.Jackie@epa.gov; and Jonathan Barnes, (202) 564-1950, Barnes.Jonathan@epa.gov.

SUPPLEMENTARY INFORMATION: EPA implemented Fleet Access (FA) in response to General Services Administration (GSA) Bulletin FMR B-15, which includes the requirement that each federal agency store and maintain vehicle asset data collected in a Fleet Management Information System (FMIS). FA stores vehicle-level data such as license plate, vehicle identification number (VIN), make, model, acquisition value/lease rates, and designations regarding alternative fuel, energy, and sustainability mandates. FA is also used to produce the yearly FAST Report. This end-of-year report is submitted to the federal agency that maintains the Federal Automotive Statistical Tool (FAST). The FAST Report summarizes each vehicle's annual data with respect to fuel, mileage, maintenance, acquisition, and disposal.

EPA is modifying FA to add a routine use that is related to FAST reporting, and to move FA information technology infrastructure from a vendor-hosted system to an EPA-hosted system because the vendor for Fleet Access, AgileFleet, is not FedRAMP certified. In addition, moving FA to an EPA-hosted system will ensure that NIST-required security controls for a system categorized as low are in place, operating as expected, and producing the desired results. See National Institute of Standards and Technology (NIST) Special Publication 800-53, “Security and Privacy Controls for Information Systems and Organizations,” Revision 5. In addition, the vendor-hosted infrastructure is not FedRAMP compliant.

FA will continue to serve as a comprehensive standardized vehicle reservation system used by agency staff needing to reserve and utilize fleet vehicles for official agency business. FA will still require system users to register personal business information to reserve agency fleet assets. Other components of FA, including operational, functional, and day-to-day management will not change except for planned upgrades.

SYSTEM NAME AND NUMBER:

Fleet Access, EPA-85.

SECURITY CLASSIFICATION:

Unclassified.

SYSTEM LOCATION:

FA is managed by the Office of Mission Support, Office of Administration, Environmental Protection Agency, 1301 Constitution Ave. NW, Washington, DC 20460. Electronically stored information is hosted at the EPA National Computer Center (NCC), 109 TW Alexander Drive, Research Triangle Park, Durham, NC 27711.

SYSTEM MANAGER(S):

James Cunningham, IT Project Manager, Office of Mission Support, Office of Administration, Environmental Protection Agency, 1200 Pennsylvania Ave. NW, Washington, DC 20460, Mail code 3101M, Cunningham.James@epa.gov, 202-564-7212.

Jonathan Barnes, Fleet Project Manager, Office of Mission Support, Office of Administration, Environmental Protection Agency, 1200 Pennsylvania Ave. NW, Washington, DC 20460, Mail code 3101M, Barnes.Jonathan@epa.gov, 202-564-1950.

AUTHORITY FOR MAINTENANCE OF THE SYSTEM:

40 U.S.C. 17502 and 17503—Federal Motor Vehicle Expenditure Control; and General Services Administration (GSA) FMR B-15.

PURPOSE(S) OF THE SYSTEM:

FA is a commercial off-the-shelf software solution installed on EPA systems and operated by EPA personnel and contractors. EPA uses FA to manage the Agency's fleet resources, and specifically to store and maintain vehicle asset data collected in the Agency's Fleet Management Information System (FMIS). The FA system serves two primary purposes: First, to store vehicle level data such as license plate, VIN, make, model, acquisition value/lease rates, designations regarding alternative fuel, energy and sustainability mandates, all of which are used to produce the FAST Report. This end-of-year report is submitted jointly to the Department of Energy (DOE), the GSA, and the Idaho National Lab (INL). The FAST Report summarizes each vehicle's annual data with respect to fuel, mileage, maintenance, acquisition, and disposal. Second, FA is used by EPA's Fleet program management, regional and local staff, and support contractors as a standardized vehicle reservation system to reserve and utilize fleet vehicles for official agency business.

CATEGORIES OF INDIVIDUALS COVERED BY THE SYSTEM:

The categories of individuals covered by this system include EPA employees and EPA contractors.

CATEGORIES OF RECORDS IN THE SYSTEM:

Personally Identifiable Information (PII) collected includes: Last Name, First Name, Work Phone Number, Work Email Address, Driver's License Expiration Date, and Profile Picture.

RECORD SOURCE CATEGORIES:

FA is a data management system that allows authorized EPA employees and contractors to store/maintain vehicle asset data and reserve agency vehicles across various programs/regions. PII information is collected directly from the user via an online registration form.

ROUTINE USES OF RECORDS MAINTAINED IN THE SYSTEM, INCLUDING CATEGORIES OF USERS AND PURPOSES OF SUCH USES:

The routine uses below are both related to and compatible with the original purpose for which the information was collected. The following general routine uses apply to this system (86FR 62527): A, B, C, D, E, F, G, H, I, J, K, L, and M.

The following additional routine use applies to this system:

1. Per 40 CFR 102-34.335, information may be disclosed to the federal agency that maintains the Federal Automotive Statistical Tool (FAST) in connection with Federal Fleet Reporting. requirements and other required reporting.

POLICIES AND PRACTICES FOR STORAGE OF RECORDS:

The information collected within FA is maintained and stored in a database hosted by the EPA National Computer Center (NCC) located at 109 T.W. Alexander Drive, Research Triangle Park, NC 27711, per EPA Records Schedule 0090—Administrative Support Databases and EPA Records Schedule 1009—Motor Vehicles and Personal Property.

POLICIES AND PRACTICES FOR RETRIEVAL OF RECORDS:

Records for FA are retrievable by User ID and last name.

POLICIES AND PRACTICES FOR RETENTION AND DISPOSAL OF RECORDS:

FA complies with EPA Records Schedule 0090—Administrative Support Databases and EPA Records Schedule 1009—Motor Vehicles and Personal Property. Personnel information is retained for as long as the user or administrator determines necessary; generally, as long as the individual is employed by EPA and requires vehicle reservation access. If a person no longer needs to reserve a vehicle for agency business, their user information is deleted permanently, in accordance with EPA Records Schedule 1009. Vehicle data are stored for a minimum of 3 years.

ADMINISTRATIVE, TECHNICAL, AND PHYSICAL SAFEGUARDS:

Security controls used to protect personal sensitive data in FA are commensurate with those required for an information system rated low for confidentiality, integrity, and availability, as prescribed in NIST Special Publication, 800-53, “Security and Privacy Controls for Information Systems and Organizations,” Revision 5.

1. Administrative Safeguards: Personnel are required to complete annual agency Information Security and Privacy training. Personnel are instructed to lock their computers when they leave their desks.

2. Technical Safeguards: Access to FA is restricted to authorized users via login by username and password. All application passwords are encrypted in the database. User passwords cannot be seen by the administrators. The application is web-based, and user sessions are encrypted.

3. Physical Safeguards: Equipment used for hosting FA is in a secure facility. Access to the secure facility is logged and restricted to employees displaying valid identification badges. Power to the facility is insured by both battery backup and diesel generator. Fire suppression systems are in place. The facility is staffed 24 hours a day, seven days a week.

RECORD ACCESS PROCEDURES:

All requests for access to personal records should cite the Privacy Act of 1974 and reference the type of request being made (i.e., access). Requests must include: (1) The name and signature of the individual making the request; (2) the name of the Privacy Act system of records to which the request relates; (3) a statement whether a personal inspection of the records or a copy of them by mail is desired; and (4) proof of identity (e.g., driver's license, military identification card, employee badge or identification card). Additional identity verification procedures may be required, as warranted. Requests must meet the requirements of EPA regulations that implement the Privacy Act of 1974, at 40 CFR part 16. A full description of EPA's Privacy Act procedures for requesting access to records is available at 40 CFR part 16.

CONTESTING RECORD PROCEDURES:

Requests for correction or amendment must include: (1) The name and signature of the individual making the request; (2) the name of the Privacy Act system of records to which the request relates; (3) a description of the information sought to be corrected or amended and the specific reasons for the correction or amendment; and (4) proof of identity A full description of EPA's Privacy Act procedures for the correction or amendment of a record is included in EPA's Privacy Act regulations at 40 CFR part 16.

NOTIFICATION PROCEDURES:

Individuals who wish to be informed whether a Privacy Act system of records maintained by EPA contains any record pertaining to them, should make a written request to the EPA, Attn: Agency Privacy Officer, MC 2831T, 1200 Pennsylvania Ave. NW, Washington, DC 20460, or by email at: privacy@epa.gov. A full description of EPA's Privacy Act procedures is included in EPA's Privacy Act regulations at 40 CFR part 16.

EXEMPTIONS PROMULGATED FOR THE SYSTEM:

None.

HISTORY:

86 FR 10955 (February 23, 2021).

Vaughn Noga,
Senior Agency Official for Privacy.

[FR Doc. 2022-01733 Filed 1-27-22; 8:45 am]

BILLING CODE 6560-50-P